DEPARTMENT OF ENERGY

Federal Energy Regulatory Commission

[Docket No. RP02-144-000]

Superior Natural Gas Corporation and Walter Oil & Gas Corporation, Complainant, v. Williams Gas Processing—Gulf Coast Company, L.P., Williams Field Services Company, and Williams Gulf Coast Gathering Company L.L.C., Respondents; Notice of Complaint

January 16, 2002.

Take notice that on January 15, 2002, Superior Natural Gas Corporation (Superior) and Walter Oil & Gas Corporation (Walter), pursuant to Rule 206 of the Rules of Practice and Procedure of the Federal Energy Regulatory Commission (Commission), 18 CFR 385.206, tendered for filing a Complaint against Williams Field Services Company, Williams Gas Processing—Gulf Coast Company, L.P., and Williams Gulf Coast Gathering Company, L.L.C. (collectively, Williams) for violating the Outer Continental Shelf Lands Act (OCSLA) in its operation of the North Padre Island Gathering System (North Padre System). Superior and Walter have requested that the Commission expeditiously issue an order, pursuant to the OCSLA and the Commission's implementing regulations.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before January 24, 2002. Protests will be considered by the Commission in determining the appropriate action to be taken, but will not serve to make protestants parties to the proceeding. Any person wishing to become a party must file a motion to intervene. Answers to the complaint shall also be due on or before January 24, 2002. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-1586 Filed 1-22-02; 8:45 am]

BILLING CODE 6717-01-P